DEPARTMENT OF VETERANS AFFAIRS

Veterans and Community Oversight and Engagement Board, Notice of Meeting

The Department of Veterans Affairs (VA) gives notice under the Federal Advisory Committee Act (FACA), 5 U.S.C. App. 2, that the Veterans and Community Oversight and Engagement Board will meet virtually on June 29, 2021. The meeting will begin and end as follows:

Date | Time
June 29, 2021 | 3:00 p.m. to 6:00 p.m. EST.

The meetings are open to the public and will be recorded. Members of the public can attend the meeting by registering at the link below: https://veteransaffairs.webex.com/veteransaffairs/onstage/g.php?MTID=e47738a7af470cfd8abf11982d6705057.

The Board was established by the West Los Angeles Leasing Act of 2016 on September 29, 2016. The purpose of the Board is to provide advice and make recommendations to the Secretary of Veterans Affairs on: Identifying the goals of the community and Veteran partnership; improving services and outcomes for Veterans, members of the Armed Forces, and the families of such Veterans and members; and on the implementation of the Draft Master Plan approved by the Secretary on January 28, 2016, and on the creation and implementation of any successor master plans.

On June 29, the agenda will include opening remarks from the Committee Chair, Executive Sponsor, and other VA officials. There will be a general update from Veterans Administration Greater Los Angeles Healthcare System (VAGLAHS) on a revised Draft Master Plan timeline based upon engineering challenges, the proposed plan to work with State/County/City considering recent rebalance of State budget, the target timeframe to house next compliment of Veterans as a result of executing the Draft Master Plan, and the strategy moving forward regarding encampment of Veterans located outside the campus gates. The San Francisco VA Health Care System will provide a presentation on a model of care and programs to serve medically and behaviorally complex homeless veterans, and the Hope of the Valley Rescue Mission will provide an overview of its Tiny Home initiative. The Board's Master Plan with Services and Outcomes subcommittee and Outreach and Community Engagement with Services and Outcomes subcommittee, will report on activities since the last meeting, followed by an out brief to the full Board on any draft recommendations considered for forwarding to the SECVA.

A public comment session will occur from 5:05 p.m. to 5:55 p.m. Individuals wishing to make public comments are required to register during the WEBEX registration process. In the interest of time management, speakers will be held to a 5-minute time limit and selected in the order of event registration. If time expires and your name was not selected, or you did not register to provide public comment and would like to do so, you are asked to submit public comments via email at VEOFACA@va.gov for inclusion in the official meeting record.

To attend the meeting, use the registration instructions—Registration Instructions: Select the “Register” hyperlink in event status or the “Register” button located bottom center of the page. Attendees will then be asked to identify themselves by first name, last name, email address, affiliation (if any) and interest in making a public comment. Please select “Submit” to finish registration. You will receive a confirmation email from WEBEX shortly after registration. The confirmation email will include a calendar event invitation and instructions to join the meeting via web browser or telephone. Attempts to join the meeting will not work until the host opens the meeting approximately ten minutes prior to start time.

Any member of the public seeking additional information should contact Mr. Eugene W. Skinner, Jr. at (202) 631-7645 or at Eugene.Skinner@va.gov.

Dated: May 27, 2021.
Jelessa M. Burney,
Federal Advisory Committee Management Officer.

[FR Doc. 2021-11568 Filed 6-1-21; 8:45 am]

BILLING CODE P